DEPARTMENT OF ENERGY

Federal Energy Regulatory Commission

Combined Notice of Filings #1

Take notice that the Commission received the following electric corporate filings:

Docket Numbers: EC17-106-000.

Applicants: ITC Midwest LLC.

Description: Application of ITC Midwest LLC for Approval of Acquisition of Assets Pursuant to Section 203 of the FPA.

Filed Date: 4/21/17.

Accession Number: 20170421-5243.

Comments Due: 5 p.m. ET 5/12/17.

Docket Numbers: EC17-107-000.

Applicants: Decatur Energy Center, LLC, Capital Power Investments LLC.

Description: Application for Authorization Under Section 203 of the Federal Power Act and Request for Expedited Action, Confidential Treatment, and Waivers of Capital Power Investments LLC, et al.

Filed Date: 4/21/17.

Accession Number: 20170421-5246.

Comments Due: 5 p.m. ET 5/12/17.

Take notice that the Commission received the following electric rate filings:

Docket Numbers: ER17-1458-000.

Applicants: PacifiCorp.

Description: § 205(d) Rate Filing: BPA AC Intertie Agreement 14th Revised to be effective 6/21/2017.

Filed Date: 4/21/17.

Accession Number: 20170421-5239.

Comments Due: 5 p.m. ET 5/12/17.

Docket Numbers: ER17-1459-000.

Applicants: California Independent System Operator Corporation.

Description: Compliance filing: 2017-04-21 Market Redesign and Technology Upgrade Directives to be effective N/A.

Filed Date: 4/21/17.

Accession Number: 20170421-5241.

Comments Due: 5 p.m. ET 5/12/17.

Docket Numbers: ER17-1460-000.

Applicants: Southwest Power Pool, Inc.

Description: § 205(d) Rate Filing: 1636R18 Kansas Electric Power Cooperative, Inc. NITSA and NOA to be effective 4/1/2017.

Filed Date: 4/24/17.

Accession Number: 20170424-5128.

Comments Due: 5 p.m. ET 5/15/17.

Docket Numbers: ER17-1461-000.

Applicants: Duke Energy Carolinas, LLC.

Description: § 205(d) Rate Filing: DEC-Greenwood RS No. 334 Revised PPA to be effective 7/1/2017.

Filed Date: 4/24/17.

Accession Number: 20170424-5134.

Comments Due: 5 p.m. ET 5/15/17.

Docket Numbers: ER17-1462-000.

Applicants: Duke Energy Carolinas, LLC.

Description: § 205(d) Rate Filing: DEC-Concord RS No. 327 Revised PPA to be effective 7/1/2017.

Filed Date: 4/24/17.

Accession Number: 20170424-5136.

Comments Due: 5 p.m. ET 5/15/17.

Docket Numbers: ER17-1463-000.

Applicants: PJM Interconnection, L.L.C.

Description: § 205(d) Rate Filing: Original SA No. 4682, First Revised SA Nos. 4332 and 4333, Queue No. AA1-139 to be effective 10/26/2016.

Filed Date: 4/24/17.

Accession Number: 20170424-5167.

Comments Due: 5 p.m. ET 5/15/17.

Docket Numbers: ER17-1464-000.

Applicants: World Fuel Services, Inc.

Description: Baseline eTariff Filing: World Fuel Services—Baseline Filing to be effective 4/24/2017.

Filed Date: 4/24/17.

Accession Number: 20170424-5174.

Comments Due: 5 p.m. ET 5/15/17.

Take notice that the Commission received the following qualifying facility filings:

Docket Numbers: QF17-852-000.

Applicants: Newberry Solar 1, LLC.

Description: Refund Report of Newberry Solar 1, LLC.

Filed Date: 4/21/17.

Accession Number: 20170421-5242.

Comments Due: 5 p.m. ET 5/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2017.
Kimberly D. Bose,
Secretary.

[FR Doc. 2017-08573 Filed 4-27-17; 8:45 am]

BILLING CODE 6717-01-P